COMMISSION ON CIVIL RIGHTS

Sunshine Act Notice

AGENCY: United States Commission on Civil Rights.

ACTION: Notice of meeting and briefing.

DATE AND TIME: Friday, April 4, 9:30 a.m.

PLACE: U.S. Commission on Civil Rights, 624 Ninth Street, NW., Rm. 540, Washington, DC 20425.

Briefing Agenda

Topic: The Impact of Illegal Immigration on the Wages & Employment Opportunities of Black Workers.

I. Introductory Remarks by Chairman

II. Speakers' Presentations

III. Questions by Commissioners and Staff Director

IV. Adjourn Briefing

FOR FURTHER INFORMATION CONTACT: Lenore Ostrowsky, Acting Chief, Public Affairs Unit, (202) 376-8582.

Dated: March 25, 2008.
David Blackwood,
General Counsel.

[FR Doc. 08-1081 Filed 3-25-08; 2:34 pm]

BILLING CODE 6335-01-P